DEPARTMENT OF THE TREASURY

Submission for OMB Review; Comment Request

November 19, 2012.

The Department of the Treasury will submit the following information collection request to the Office of Management and Budget (OMB) for review and clearance in accordance with the Paperwork Reduction Act of 1995, Public Law 104-13, on or after the date of publication of this notice.

DATES: Comments should be received on or before December 24, 2012 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Bureau of the Public Debt (BPD)

OMB Number: 1535-0063.

Type of Review: Revision of a currently approved collection.

Title: Request for Payment of Reissue of U.S. Savings Bonds Deposited in Safekeeping.

Form: PD F 4239.

Abstract: The information is necessary to request payment or reissue of Savings Bonds/Notes held in safekeeping when original safekeeping custody receipts are not available. The information on the form is used by the Department of the Treasury, Bureau of the Public Debt, to identify the securities involved, establish entitlement, and to obtain a certified request for payment or reissue. Without the information, the transaction cannot be completed.

Affected Public: Individuals or Households.

Estimated Total Burden Hours: 1,500.

OMB Number: 1535-0138.

Type of Review: Extension without change of a currently approved collection.

Title: TreasuryDirect.

Form: PD F 5512, 5444, 5446, 5511.

Abstract: The information is requested to establish a new TreasuryDirect account and process transactions.

Affected Public: Individuals or Households.

Estimated Total Burden Hours: 96,768.

Dawn D. Wolfgang,
Treasury PRA Clearance Officer.

[FR Doc. 2012-28429 Filed 11-21-12; 8:45 am]

BILLING CODE 4810-39-P